SURFACE TRANSPORTATION BOARD

[Docket No. FD 36757]

Great Lakes Basin Railroad—Operation Exemption—Line in Hammond, Ind.

Great Lakes Basin Railroad (GLBR), a noncarrier, has filed a verified notice of exemption pursuant to 49 CFR 1150.31 to operate certain railroad track located inside an existing industrial facility in Hammond, Ind. The track begins at a point of connection with Norfolk Southern Railway Company's Chicago District at a switch located at approximately milepost 499.4 and extends approximately 1,623 feet (the Line).¹ According to GLBR, the Line is currently private track and has no mileposts.

¹ The verified notice was initially filed on February 26, 2024. GLBR filed a supplement on March 6, 2024. Accordingly, for purposes of calculating regulatory deadlines, March 6 will be treated as the filing date.

According to the verified notice, the Line is owned by N/S Hammond LLC (N/S) and does not have operations on it as part of the industrial facility. GLBR has reached an agreement with N/S under which GLBR will commence common carrier service over the Line on or after the effective date of this exemption.

GLBR states that the proposed transaction does not involve any provision or agreement that would limit future interchange on the Line with a third-party connecting carrier. GLBR certifies that its projected annual revenue will not exceed $5 million and will not exceed those that would qualify it as a Class III carrier.

The earliest this transaction may be consummated is April 5, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than March 29, 2024.

All pleadings, referring to Docket No. FD 36757, must be filed with the Surface Transportation Board either via e-filing on the Board's website or in writing addressed to 395 E Street SW, Washington, DC 20423-0001. In addition, a copy of each pleading must be served on GLBR's representative, Daniel Elliott, Esq., GKG Law, 1055 Thomas Jefferson Street NW, Suite 620, Washington, DC 20007-4492.

According to GLBR, this action is categorically excluded from environmental review under 49 CFR 1105.6(c) and from historic preservation reporting requirements under 49 CFR 1105.8(b).

Board decisions and notices are available at www.stb.gov.

Decided: March 19, 2024.
By the Board, Mai T. Dinh, Director, Office of Proceedings.
Tammy Lowery,
Clearance Clerk.

[FR Doc. 2024-06119 Filed 3-21-24; 8:45 am]

BILLING CODE 4915-01-P